FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Michael M. Grimm, Acting Chief, Hazard Study Branch, Federal Insurance and Mitigation Administration, Federal Emergency Management Agency, 500 C Street SW., Washington, DC 20472, (202) 646-2878, or (email) Michael.Grimm@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) • Elevation in feet (NAVD)
ALABAMA
Montgomery County (Unincorporated Areas) and City of Montgomery (FEMA Docket No. D-7544)
City of Montgomery
Baldwin Slough:
At the confluence with Catoma Creek | * 181
Approximately 600 feet upstream of Vaughn Road | * 235
Montgomery County (Unincorporated Areas)
Catoma Creek:
Just upstream of Trotman Road | * 216
Approximately 12.5 miles upstream of Trotman Road | * 247
City of Montgomery, Montgomery County (Unincorporated Areas)
Catoma Creek Tributary 1:
At the confluence with Catoma Creek Tributary 1 | * 216
Approximately 1.5 miles upstream of the confluence with Catoma Creek Tributary 1 | * 247
City of Montgomery
Catoma Creek Tributary 1 Branch 1:
At confluence with Catoma Creek Tributary 1 | * 206
Approximately 1.7 miles upstream of confluence with Catoma Creek Tributary 1 | * 223
City of Montgomery
Catoma Creek Tributary 1 Branch 2:
At confluence with Catoma Creek Tributary 1 | * 208
Approximately 1.7 miles upstream of confluence with Catoma Creek Tributary 1 | * 234
City of Montgomery
Catoma Creek Tributary 1 Branch 3:
At confluence with Catoma Creek Tributary 1 | * 212
Approximately 1.4 miles upstream of the confluence with Catoma Creek Tributary 1 | * 235
Montgomery County (Unincorporated Areas)
Dry Creek:
Approximately 200 feet downstream of Troy Highway | * 247
Approximately 0.9 mile upstream of Canty Road | * 271
City of Montgomery, Montgomery County (Unincorporated Areas)
Jenkins Creek:
Just upstream of CSX Transportation | * 208
Approximately 100 feet upstream of Vaughn Road | * 222
Montgomery County (Unincorporated Areas)
Little Catoma Creek:
Approximately 1.25 miles upstream of Troy Highway | * 220
Just upstream of Old Hayneville Road | * 268
Montgomery County (Unincorporated Areas)
Little Catoma Creek Tributary 1:
Approximately 300 feet upstream from the confluence with Little Catoma Creek | * 220
Approximately 50 feet upstream of Old Pike Road | * 259
Montgomery County (Unincorporated Areas), City of Montgomery
Millies Creek:
Just upstream of CSX Transportation | * 215
Approximately 50 feet upstream of Wallahatchie Road | * 238
City of Montgomery
Oliver Creek:
Approximately 0.8 mile downstream of CSX Transportation | * 173
Approximately 100 feet upstream of Interstate Route 85 | * 237
Montgomery County (Unincorporated Areas)
Maps available for inspection at the Montgomery County Engineering Department, 3152 Rolling Road Circle, Montgomery, Alabama.
———
City of Montgomery
Maps available for inspection at the Montgomery City Hall, 103 North Perry, Montgomery, Alabama.
VIRGINIA
Shenandoah County and Incorporated Areas (FEMA Docket No. D-7540)
Shenandoah County (Unincorporated Areas), Town of Strasburg, Town of Mount Jackson, Town of New Market
North Fork Shenandoah River:
At the downstream county boundary | * 517
Approximately 4,000 feet upstream of State Route 953 | * 952
Shenandoah County (Unincorporated Areas), Town of Woodstock
Spring Hollow:
At the confluence with North Fork Shenandoah River | * 676
Approximately 1,500 feet upstream of State Route 763 | * 930
Shenandoah County (Unincorporated Areas), Town of Edinburg
Stony Creek:
At the confluence with North Fork Shenandoah River | * 781
Approximately 400 feet downstream of State Route 760 | * 781
Shenandoah County (Unincorporated Areas)
Maps available for inspection at the Shenandoah County Planning and Zoning Department, 600 North Main Street, Suite 107, Woodstock, Virginia.
———
Town of Edinburg
Maps available for inspection at the Edinburg Town Office, 101 Town Hall Avenue, Edinburg, Virginia.
———
Town of Mount Jackson
Maps available for inspection at the Mount Jackson Town Hall, 5945 Main Street, Mount Jackson, Virginia.
———
Town of New Market
Maps available for inspection at the New Market Town Office, 9418 John Sevier Road, New Market, Virginia.
———
Town of Strasburg
Maps available for inspection at the Strasburg Town Office, 174 East King Street, Strasburg, Virginia.
———
Town of Woodstock
Maps available for inspection at the Woodstock Municipal Building, 135 North Main Street, Woodstock, Virginia.

(Catalog of Federal Domestic Assistance No. 83.100, “Flood Insurance”)
Dated: February 3, 2003.
Anthony S. Lowe,
Administrator, Federal Insurance and Mitigation Administration.

[FR Doc. 03-3332 Filed 2-10-03; 8:45 am]

BILLING CODE 6718-04-P